DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans that are final. The actions relate to a proposed highway project on State Route 133 from just south of El Toro Road to State Route 73 between Post Miles 3.1 and R4.1 in the City of Laguna Beach, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 8, 2019. If the Federal law that authorizes judicial review of a claim provides a time period of less than 150 days for filing such claim, then that shorter time period still applies.

FOR FURTHER INFORMATION CONTACT: For Caltrans: Smita Deshpande, Senior Environmental Planner, Caltrans, 1750 East 4th Street, Suite 100, Santa Ana, California, 92705, (657) 328-6151, smita.deshpande@dot.ca.gov. For FHWA: Larry Vinzant at (916) 498-5040 or email larry.vinzant@dot.gov.

SUPPLEMENTARY INFORMATION: Effective July 1, 2007, the FHWA assigned, and Caltrans assumed, environmental responsibilities for this project pursuant to 23 U.S.C. 327. Notice is hereby given that the Caltrans has taken final agency actions subject to 23 U.S.C. 139(l)(1) by issuing licenses, permits, and approvals for the following highway project in the State of California: The project proposes to make improvements to State Route (SR) 133 in both directions from just south of El Toro Road to SR-73 between Post Miles 3.1 and R4.1 in Laguna Beach. The project will make drainage improvements, widen the shoulders, add a Class II bike lane, and underground overhead utilities. The project also includes safety improvements from 1,700 feet (ft) south of El Toro Road to 1,200 ft north of El Toro Road. The actions by the Federal agencies, and the laws under which such actions were taken, are described in the Environmental Assessment/Finding of No Significant Impact (EA/FONSI) for the project, approved on October 1, 2018. The EA/FONSI and other project records are available by contacting Caltrans at the addresses provided above. The Caltrans EA/FONSI can be viewed and downloaded from the project website at: http://www.dot.ca.gov/d12/DEA/133/0P94U (web address is case-sensitive, use capital letters as indicated).

This notice applies to all Federal agency decisions as of the issuance date of this notice and all laws under which such actions were taken, including but not limited to:

1. General: National Environmental Policy Act (NEPA) (42 U.S.C. 4321-4351)

2. Clean Air Act (42 U.S.C. 7401-7671(q))

3. Migratory Bird Treaty Act (16 U.S.C. 703-712)

4. Historic and Cultural Resources: Section 106 of the National Historic Preservation Act of 1966, as amended (16 U.S.C. 470(f) et seq.)

5. Clean Water Act (Section 401) (33 U.S.C. 1251-1377)

6. Federal Endangered Species Act of 1973 (16 U.S.C. 1531-1543)

7. Executive Order 11990—Protection of Wetlands

8. Department of Transportation Act of 1966, Section 4(f) (49 U.S.C. 303)

9. Executive Order 13112—Invasive Species

10. Historic Sites Act of 1935;

11. Executive Order 13112, Invasive Species; and

12. Title VI of the Civil Rights Act of 1964

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, Sacramento, California.

[FR Doc. 2018-24543 Filed 11-8-18; 8:45 am]

BILLING CODE 4910-RY-P